FEDERAL ELECTION COMMISSION

Sunshine Act Notices

AGENCY: Federal Election Commission.

Date and Time: Tuesday, August 25, 2009, at 10 a.m.

Place: 999 E Street, NW., Washington, DC (Ninth Floor).

Status: This hearing will be open to the public.

Matter Before the Commission: Web site and Internet Communications Improvement Initiative.

Date and Time: Tuesday, August 25, 2009, 2:30 p.m. and its Continuation on Wednesday, August 26, 2009, 10 a.m.

Place: 999 E Street, NW., Washington, DC (Ninth Floor).

Status: These meetings will be closed to the public.

Items to be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Date and Time: Thursday, August 27, 2009, at 10 a.m.

Place: 999 E Street, NW., Washington, DC (Ninth Floor).

Status: This meeting will be open to the public.

Items to be Discussed: Correction and Approval of Minutes.

Draft Advisory Opinion 2009-14: Mercedes-Benz USA, LLC and Sterling Truck Corporation by Jan Witold Baran, Esq. and Caleb Burns, Esq.

Draft Advisory Opinion 2009-19: Club for Growth, by David Keating, Executive Director.

Draft Advisory Opinion 2009-20: Visclosky for Congress, by Treasurer Michael C. Malczewski.

Draft Advisory Opinion 2009-21: West Virginia Secretary of State, by Timothy G. Leach, Assistant General Counsel, Office of the Secretary of State.

Future Meeting Dates.

Management and Administrative Matters.

Individuals who plan to attend and require special assistance, such as sign language interpretation or other reasonable accommodations, should contact Mary Dove, Commission Secretary, at (202) 694-1040, at least 72 hours prior to the hearing date.

PERSON TO CONTACT FOR INFORMATION: Judith Ingram, Press Officer. Telephone: (202) 694-1220.

Mary W. Dove,
Secretary of the Commission.

[FR Doc. E9-20505 Filed 8-25-09; 8:45 am]

BILLING CODE 6715-01-M